DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the supplementary information section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Exploration and Production

Offshore Structures

Spec 2SC, 1st Edition, Manufacture of Structural Steel Castings for Primary Offshore Applications.

RP 2T, 3rd Edition, Planning, Designing and Constructing Tension Leg Platforms,

For Further Information Contact: Roland Goodman, Standards Department, e-mail: (goodmanr@api.org).

Oil Country Tubular Goods

Spec 5CRA, 1st Edition, Corrosion Resistant Alloy Seamless Tubes for use as Casing, Tubing and Coupling Stock—Technical Delivery Conditions.

Spec 5DP, 1st Edition, Drill Pipe (replaces Spec 5D and Spec 7).

Spec 5LD, 3rd Edition, CRA Clad or Lined Steel Pipe.

For Further Information Contact: Shail Ghaey, Standards Department, e-mail: (ghaeys@api.org).

Valves

Spec 6A, 20th Edition, Wellhead and Christmas Tree Equipment.

Spec 6A-718, 2nd Edition, Nickel Base Alloy 718.

For Further Information Contact: Ed Baniak, Standards Department, e-mail: (baniake@api.org).

Drilling Equipment

Spec 7K, 5th Edition, Drilling and Well Servicing Equipment.

RP 7G-2, 1st Edition, Rotary Drilling Equipment, Part 2, Inspection and classification of drill stem elements.

For Further Information Contact: Roland Goodman, Standards Department, e-mail: (goodmanr@api.org).

Well Cements and Completion Fluids

Spec 10A, 24th Edition, Cements and Materials for Well Cementing.

For Further Information Contact: Shail Ghaey, Standards Department, e-mail: (ghaeys@api.org).

Production Equipment

Spec 11AX 13th Edition, Subsurface Sucker Rod Pumps and Fittings,

Spec 11B, 27th Edition, Sucker Rods.

RP 11ER, 3rd Edition, Guarding of Pumping Units.

RP 11G, 5th Edition, Installation and Lubrication of Pumping Units.

For Further Information Contact: Ed Baniak, Standards Department, e-mail: (baniake@api.org).

Drilling Fluids

Spec 13A, 18th Edition, Drilling Fluid Materials.

RP 13B-1, 4th Edition, Field Testing Water-Based Drilling Fluids.

RP 13B-2, 5th Edition, Field Testing Oil-Based Drilling Fluids.

RP 13I, 8th Edition, Laboratory Testing Drilling Fluids.

Spec 13K, 3rd Edition, Chemical Analysis of Barite.

For Further Information Contact: Shail Ghaey, Standards Department, e-mail: (ghaeys@api.org).

Drilling Well Control Equipment

RP 16ST, 1st Edition, Recommended Practice for Coiled Tubing Well Control Equipment Systems and Operations.

For Further Information Contact: Roland Goodman, Standards Department, e-mail: (goodmanr@api.org).

Subsea Production Equipment

Spec 17D, 2nd Subsea Wellhead and Christmas Tree Equipment.

Spec 17E, 4th Edition, Subsea Umbilicals.

Spec 17L1, 1st Edition, Flexible Pipe Ancillary Equipment.

RP 17L2, 1st Edition, Flexible Pipe Ancillary Equipment.

RP 17N, 1st Edition, Subsea Reliability.

RP 17O, 1st Edition, High Intensity Pressure Protection Systems—HIPPS.

RP 17P, 1st Edition, Templates and Manifolds.

RP 17Q, 1st Edition, Subsea Qualification.

For Further Information Contact: Ed Baniak, Standards Department, e-mail: (baniake@api.org).

Completion Equipment

Spec 11V4, 1st Edition, Practices for Side-pocket Mandrels and Related Equipment.

RP 11V9, 1st Edition, Design, Operation, and Troubleshooting of Dual Gas-lift Wells.

For Further Information Contact: Roland Goodman, Standards Department, e-mail: (goodmanr@api.org).

Supply Chain Management

Spec 20C, 1st Edition, Closed Die Forgings for use in the Petroleum and Natural Gas Industry.

For Further Information Contact: Roland Goodman, Standards Department, e-mail: (goodmanr@api.org).

Quality Management System

Spec Q1, 9th Edition, Quality Programs.

For Further Information Contact: Ed Baniak, Standards Department, e-mail: (baniake@api.org).

Meetings/Conferences: The 2009 Summer Standardization Conference on Oilfield Equipment and Materials will take place in Westminister, Colorado, June 22-26, 2009. Interested parties may visit the API Web site at http://www.api.org/meetings/ for more information regarding participation in this meeting.

Executive Committee on Drilling and Production Operations

RP 65-1, 2nd Edition, Cementing Shallow Water Flow Zones in Deepwater Wells.

For Further Information Contact: Tim Sampson, Upstream and Industry Operations, e-mail: (sampson@api.org).

Marketing and Aviation

RP 1615, Installation of Underground Petroleum Storage Systems, 6th Edition.

RP 1626, Storing and Handling of Ethanol, 2nd Edition.

RP 1541, Protective Coating used in Jet Fuel Tanks, 1st Edition.

RP 1543, Documentation, Monitoring and Laboratory Testing of Jet Fuel, 1st Edition.

For Further Information Contact: Steve Crimaudo, Standards Department, e-mail: (crimaudos@api.org).

Petroleum Measurement

Measurement Quality

MPMS Chapter 9.1 (ANSI/ASTM D1298), Standard Test Method for Density, Relative Density (Specific Gravity), or API Gravity of Crude Petroleum and Liquid Petroleum Products by Hydrometer Method, 3rd Edition.

MPMS Chapter 9.2 (ANSI/ASTM D1657), Standard Test Method for Density of Relative Density of Light Hydrocarbons by Pressure Hydrometer, 3rd Edition.

MPMS Chapter 9.3 (ANSI/ASTM D6822), Standard Test Method for Density, Relative Density, and API Gravity of Crude Petroleum and Liquid Petroleum Products by Thermohydrometer Method, 3rd Edition.

MPMS Chapter 10.10, The Determination of Water in Crude oil and Products Using Online Water Metering, 1st Edition.

For Further Information Contact: Sally Goodson, Standards Department, e-mail: (goodsons@api.org).

Gas Fluid Measurement

MPMS Chapter 14.3.1, Concentric, Square-edged Orifice Meters—Part 1—General Equations and Uncertainty Guidelines, 4th Edition.

MPMS Chapter 14.3.3, Concentric, Square-edged Orifice Meters—Part 3—Natural Gas Applications, 4th Edition.

MPMS Chapter 14.3.4, Concentric, Square-edged Orifice Meters—Part 4—Background, Development, Implementation Procedures and Subroutine Documentation, 4th Edition.

MPMS Chapter 14.5, Calculation of Gross Heating Value, Relative Density, Compressibility and Theoretical Hydrocarbon Liquid Content for Natural Gas Mixtures for Custody Transfer, 3rd Edition.

For Further Information Contact: Paula Watkins, Standards Department, e-mail (watkinsp@api.org).

Measurement Accountability

API MPMS Chapter 17.11, Measurement and Sampling of Cargoes on Board Tank Vessels Using Closed and Restricted Equipment, 1st Edition.

For Further Information Contact: Sally Goodson, Standards Department, e-mail: (goodsons@api.org).

Evaporative Loss Estimation

Publ. 2514A, Atmospheric Hydrocarbon Emissions from Marine Vessel Transfer Operations, 3rd Edition.

For Further Information Contact: Paula Watkins, Standards Department, e-mail: (watkinsp@api.org).

Production Measurement and Allocation

MPMS Chapter 20.6, Recommended Practice for Production Allocation Methodologies and Techniques, 1st Edition.

For Further Information Contact: Paula Watkins, Standards Department, e-mail: (watkinsp@api.org).

Liquid Measurement

MPMS Chapter 4.5, Master Meter Provers, 3rd Edition.

MPMS Chapter 4.7, Field-Standard Test Measures, 3rd Edition.

MPMS Chapter 4.9.4, Determination of the Volume of Displacement and Tank Provers by the Gravimetric Method of Calibration, 1st Edition.

MPMS Chapter 5.3 Addendum to the 5th Edition of Measurement of Liquid Hydrocarbons by Turbine Meters.

MPMS Chapter 12.1.2, Calculation of Static Petroleum Quantities—Part 2—Calculation Procedures for Tank Cars, 2nd Edition.

For Further Information Contact: Paula Watkins, Standards Department, e-mail: (watkinsp@api.org).

Meetings/Conferences: The Spring Committee on Petroleum Measurement Meeting will be held in Dallas, Texas, March 23-26, 2009. The Fall Committee on Petroleum Measurement Meeting will be held in Calgary, Alberta, Canada, October 12-15, 2009. Interested parties may visit the API Web site at http://www.api.org/meetings/ for more information regarding participation in these meetings.

Pipeline

RP 1111, 4th Edition, Design, Construction, Operation and Maintenance of Offshore Hydrocarbon Pipelines and Risers.

RP 1164, 2nd Edition, SCADA Security.

RP 1160, 2nd Edition, Managing System Integrity for Hazardous Liquid Pipelines.

RP 1161, 2nd Edition, Qualification of Liquid Pipeline Personnel.

RP 1162, 2nd Edition, Public Awareness Programs for Pipeline Operations.

RP 1167, 1st Edition, Alarm Management.

RP 1109, 4th Edition, Marking Liquid Petroleum Pipeline Facilities.

RP 2200, 4th Edition, Repairing Crude Oil, Liquefied Petroleum Gas and Product Pipelines.

For Further Information Contact: Ed Baniak, Standards Department, e-mail: (baniake@api.org).

Process Safety Management

RP 752, Facility Siting, 3rd Edition.

RP 754, Process Safety Performance Indicators, 1st Edition.

RP 755, Fatigue Prevention Guidelines, 1st Edition.

For Further Information Contact: David Soffrin, Standards Department, e-mail: (soffrind@api.org).

Refining

Aboveground Storage Tanks

Std 653, Tank Inspection, Repair, Alteration, and Reconstruction, 4th Edition.

Std 620, Large, Welded, Low-pressure Storage Tanks, 11th Edition.

For Further Information Contact: Steve Crimaudo, Standards Department, e-mail: (crimaudos@api.org).

Piping and Valves

API 600, Bolted Bonnet Gate Valves, 12th Edition.

Std 602, Gate, Globe and Check Valves, 9th Edition.

RP 615, Valve Selection, 1st Edition.

For Further Information Contact: Gordon Robertson, Standards Department, e-mail: (robertsong@api.org).

Electrical Equipment

RP 500, Electrical Area Classification (U.S. protocols), 3rd Edition.

RP 505, Electrical Area Classification (International protocols), 2nd Edition.

Std 541, Squirrel Cage Induction Motors, 5th Edition.

RP 545, Lightning Protection for Aboveground Tanks, 1st Edition.

For Further Information Contact: Gordon Robertson, Standards Department, e-mail: (robertsong@api.org).

Heat Transfer Equipment

Std 663, Multiple Hairpin Heat Exchangers, 1st Edition.

Std 664, Spiral Plate Heat Exchangers, 1st Edition.

For Further Information Contact: Gordon Robertson, Standards Department, e-mail: (robertsong@api.org).

Instruments and Control Systems

API 555, Process Analyzers, 3rd Edition.

For Further Information Contact: Gordon Robertson, Standards Department, e-mail: (robertsong@api.org).

Corrosion and Materials

RP 571, Damage Mechanisms Affecting Fixed Equipment, 2nd Edition.

RP 932 B, Corrosion Control in REAC Systems, 2nd Edition.

For Further Information Contact: Steve Crimaudo, Standards Department, e-mail: (crimaudos@api.org).

Inspection

API 570, Piping Inspection Code, 3rd Edition.

RP 572, Inspection of Pressure Vessels, 3rd Edition.

RP 574, Inspection of Piping System Components, 3rd Edition.

RP 576, Inspection of Pressure Relieving Devices, 3rd Edition.

RP 578, Materials Verification Program, 2nd Edition.

RP 580, Risk Based Inspection, 2nd Edition.

For Further Information Contact: David Soffrin, Standards Department, e-mail: (soffrind@api.org).

Pressure Relieving Systems

RP 526, Flanged Steel Pressure Relief Valves, 3rd Edition.

Std 2000, Venting Atmospheric and Low-pressure Storage Tanks, 6th Edition.

For Further Information Contact: Steve Crimaudo, Standards Department, e-mail: (crimaudos@api.org).

Mechanical Equipment

Std 616, Gas Turbines, 5th Edition.

Std 673, Centrifugal Fans, 3rd Edition.

Std 674, Reciprocating Positive Displacement Pumps, 3rd Edition.

Std 676, Rotary Positive Displacement Pumps, 3rd Edition.

Publ 684, Rotor Dynamics and Balancing, 3rd Edition.

RP 686, Machinery Installation and Design, 2nd Edition.

For Further Information Contact: Gordon Robertson, Standards Department, e-mail: (robertsong@api.org).

Meetings/Conferences: The Spring Refining and Equipment Standards Meeting will be held in Denver, Colorado, April 27-29, 2009. The Fall Refining and Equipment Standards Meeting will be held in Dallas, Texas, November 9-11, 2009. Interested parties may visit the API Web site at http://www.api.org/meetings/ for more information regarding participation in these meetings.

Safety and Fire Protection

Publ 2510A, Design, Construction, Operation of LPG Storage Facilities, 3rd Edition.

Publ 2218, Fireproofing Practices in Processing Facilities, 3rd Edition.

RP 2210, Flame Arrestors for Tank Vents, 4th Edition.

RP 2028, Flame Arrestors in Piping Systems, 4th Edition.

RP 2030, Fixed Water Spray Systems for Fire Protection, Addendum to 3rd Edition.

RP 2217A, Safe Work in Inert Confined Spaces, Addendum to 3rd Edition.

RP 2001, Fire Protection in Refineries, Addendum to 8th Edition.

For Further Information Contact: David Soffrin, Standards Department, e-mail: (soffrind@api.org).

For Additional Information on the overall API standards program, Contact: David Miller, Standards Department, e-mail: miller@api.org.

Dated: February 13, 2009.
Patrick Gallagher,
Deputy Director.

[FR Doc. E9-3662 Filed 2-19-09; 8:45 am]

BILLING CODE 3510-13-P